DEPARTMENT OF COMMERCE

National Oceanic and Atmospheric Administration

[I.D. 052102I]

Marine Mammals; File No. 662-1345

AGENCY: National Marine Fisheries Service (NMFS), National Oceanic and Atmospheric Administration (NOAA), Commerce.

ACTION: Issuance of permit amendment.

SUMMARY: Notice is hereby given that Dena Matkin, P.O. Box 22, Gustavus, Alaska 99826, has been issued an amendment to scientific research Permit No. 662-1345-00.

ADDRESSES: The amendment and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Jill Lewandowski or Trevor Spradlin, (301)713-2289.

SUPPLEMENTARY INFORMATION: The subject amendment to Permit No. 662-1345-00, originally issued on May 30, 1997 (62 FR 13368), has been granted under the authority of the Marine Mammal Protection Act of 1972, as amended (16 U.S.C. 1361 et seq.), and the Regulations Governing the Taking and Importing of Marine Mammals (50 CFR part 216).

The permit holder requested authorization to extend Permit No. 662-1345-00 for an additional 12 months and change the annual report due date to December 31. The new expiration date for the permit is May 31, 2003, and the new annual report due date is December 31 of each year the permit is valid. The permit number has been changed to No. 662-1345-01 to reflect that the permit has been amended.

Dated: June 20, 2002.
Trevor Spradlin,
Acting Chief, Permits, Conservation and Education Division, Office of Protected Resources, National Marine Fisheries Service.

[FR Doc. 02-16282 Filed 6-26-02; 8:45 am]

BILLING CODE 3510-22-S